DEPARTMENT OF ENERGY

Federal Energy Regulatory Commission

Combined Notice of Filings #1

Take notice that the Commission received the following electric rate filings:

Docket Numbers: ER10-3184-004; ER10-2805-004; ER10-2564-005; ER10-2600-005; ER10-2289-005.

Applicants: FortisUS Energy Corporation, Central Hudson Gas & Electric Corporation, Tucson Electric Power Company, UNS Electric, Inc., UniSource Energy Development Company.

Description: Notification of Changes in Status of the Fortis, Inc. subsidiaries.

Filed Date: 1/23/15.

Accession Number: 20150123-5165.

Comments Due: 5 p.m. ET 2/13/15.

Docket Numbers: ER15-892-000.

Applicants: Future Power PA LLC.

Description: Request for Limited Waiver, Shortened Answer Period, and Expedited Action of Future Power PA LLC.

Filed Date: 1/22/15.

Accession Number: 20150122-5131.

Comments Due: 5 p.m. ET 1/30/15.

Docket Numbers: ER15-893-000.

Applicants: California Independent System Operator Corporation.

Description: Tariff Withdrawal per 35.15: 2015-01-22_GraniteWindTermination to be effective 3/16/2015.

Filed Date: 1/22/15.

Accession Number: 20150122-5181.

Comments Due: 5 p.m. ET 2/12/15.

Docket Numbers: ER15-894-000.

Applicants: Kentucky Utilities Company.

Description: § 205(d) rate filing per 35.13(a)(2)(iii): Re-Collation to be effective 1/24/2015.

Filed Date: 1/23/15.

Accession Number: 20150123-5054.

Comments Due: 5 p.m. ET 2/13/15.

Docket Numbers: ER15-895-000.

Applicants: Kentucky Utilities Company.

Description: § 205(d) rate filing per 35.13(a)(2)(iii): Re-Collation to be effective 1/24/2015.

Filed Date: 1/23/15.

Accession Number: 20150123-5055.

Comments Due: 5 p.m. ET 2/13/15.

Docket Numbers: ER15-896-000.

Applicants: LG&E Energy Marketing Inc.

Description: § 205(d) rate filing per 35.13(a)(2)(iii): Re-Collation to be effective 1/24/2015.

Filed Date: 1/23/15.

Accession Number: 20150123-5059.

Comments Due: 5 p.m. ET 2/13/15.

Docket Numbers: ER15-897-000.

Applicants: Louisville Gas and Electric Company.

Description: § 205(d) rate filing per 35.13(a)(2)(iii): Re-Collation to be effective 1/24/2015.

Filed Date: 1/23/15.

Accession Number: 20150123-5061.

Comments Due: 5 p.m. ET 2/13/15.

Docket Numbers: ER15-898-000.

Applicants: Louisville Gas and Electric Company.

Description: § 205(d) rate filing per 35.13(a)(2)(iii): Re-Collation to be effective 1/24/2015.

Filed Date: 1/23/15.

Accession Number: 20150123-5064.

Comments Due: 5 p.m. ET 2/13/15.

Docket Numbers: ER15-899-000.

Applicants: Southwest Power Pool, Inc.

Description: § 205(d) rate filing per 35.13(a)(2)(iii): 2986 KCP&L GMO and Entergy Services, Inc. Attachment AO to be effective 1/19/2015.

Filed Date: 1/23/15.

Accession Number: 20150123-5066.

Comments Due: 5 p.m. ET 2/13/15.

Docket Numbers: ER15-900-000.

Applicants: Marshfield Utilities.

Description: Baseline eTariff Filing per 35.1: Baseline new to be effective 3/1/2015.

Filed Date: 1/23/15.

Accession Number: 20150123-5155.

Comments Due: 5 p.m. ET 2/13/15.

Docket Numbers: ER15-901-000.

Applicants: PJM Interconnection, L.L.C.

Description: § 205(d) rate filing per 35.13(a)(2)(iii): 4th Quarter 2014 Update to OA/RAA Membership Lists to be effective 12/31/2014.

Filed Date: 1/23/15.

Accession Number: 20150123-5189.

Comments Due: 5 p.m. ET 2/13/15.

Take notice that the Commission received the following electric securities filings:

Docket Numbers: ES15-10-000.

Applicants: Wolverine Power Supply Cooperative, Inc.

Description: Application for Authorization of the Assumption of Liabilities and Issuance of Securities Under Section 204 of the Federal Power Act of Wolverine Power Supply Cooperative, Inc.

Filed Date: 1/23/15.

Accession Number: 20150123-5153.

Comments Due: 5 p.m. ET 2/13/15.

Take notice that the Commission received the following qualifying facility filings:

Docket Numbers: QF15-300-000.

Applicants: UB Fuel Cell, LLC.

Description: Form 556 of UB Fuel Cell, LLC.

Filed Date: 1/15/15.

Accession Number: 20150115-5308.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2015.
Nathaniel J. Davis, Sr.,
Deputy Secretary.

[FR Doc. 2015-01745 Filed 1-29-15; 8:45 am]

BILLING CODE 6717-01-P